CONSUMER FINANCIAL PROTECTION BUREAU

[Docket No: CFPB-2025-0053]

Privacy Act of 1974; System of Records

AGENCY: Consumer Financial Protection Bureau.

ACTION: Notice of a modified system of records.

SUMMARY: In accordance with the Privacy Act of 1974, the Consumer Financial Protection Bureau (CFPB or Bureau) proposes to modify a current Privacy Act System of Records titled, “CFPB.025 Civil Penalty Fund and Bureau-Administered Redress Program Records.” This system of records enables the CFPB to manage the distribution of the Civil Penalty Fund and redress monies to consumers.

DATES: Comments must be received no later than January 21, 2026. The new system of records will be effective January 21, 2026 unless the comments received result in a contrary determination.

ADDRESSES: You may submit comments, identified by the title and docket number (see above Docket No. CFPB-2025-0053), by any of the following methods:

• Federal eRulemaking Portal: http://www.regulations.gov. Follow the instructions for submitting comments. A brief summary of this document will be available at https://www.regulations.gov/docket/CFPB-2025-0053.

• Email: privacy@cfpb.gov. Include Docket No. CFPB-2025-0053 in the subject line of the email.

• Mail/Hand Delivery/Courier: Kathryn Fong, Chief Privacy Officer, Consumer Financial Protection Bureau, 1700 G Street NW, Washington, DC 20552, (202) 435-7058. Because paper mail in the Washington, DC area and at CFPB is subject to delay, commenters are encouraged to submit comments electronically.

All submissions must include the agency name and docket number for this notice. In general, all comments received will be posted without change to http://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, Consumer Financial Protection Bureau, 1700 G Street NW, Washington, DC 20552; (202) 435-7058. If you require this document in an alternative electronic format, please contact CFPB_Accessibility@cfpb.gov. Please do not submit comments to this email box.

SUPPLEMENTARY INFORMATION: In accordance with the Privacy Act of 1974, 5 U.S.C. 552a, the CFPB is modifying a system of records titled, “CFPB.025 Civil Penalty Fund and Bureau-Administered Redress Program Records”. This modified system of records includes a new routine use to enable disclosure of records to the Department of Treasury, pursuant to Executive Order 14249, Protecting America's Bank Account Against Fraud, Waste, and Abuse and Office of Management and Budget (OMB) Memorandum M-25-32, Preventing Improper Payments and Protecting Privacy Through Do Not Pay. Additionally, CFPB is modifying the purpose to clarify that records may be used to prevent improper payment of funds. Finally, CFPB is updating the policies and practices for retention and disposal of records to include the National Archives and Records Administration (NARA)-approved records retention schedule.

The CFPB is also making non-substantive revisions to this SORN to align with the Office of Management and Budget's recommended model in Circular A-108, Appendix II. The report of the revised system of records has been submitted to the Committee on Oversight and Government Reform of the House of Representatives, the Committee on Homeland Security and Governmental Affairs of the Senate, and the Office of Management and Budget, pursuant to Circular A-108, “Federal Agency Responsibilities for Review, Reporting, and Publication under the Privacy Act” (Dec. 2016) and the Privacy Act of 1974, 5 U.S.C. 552a(r).

SYSTEM NAME AND NUMBER:

CFPB.025—Civil Penalty and Bureau-Administered Redress Program Records.

SECURITY CLASSIFICATION:

Unclassified.

SYSTEM LOCATION:

Consumer Financial Protection Bureau, 1700 G Street NW, Washington, DC 20552.

SYSTEM MANAGER(S):

Consumer Financial Protection Bureau, Chief Financial Officer, 1700 G Street NW, Washington, DC 20552.

AUTHORITY FOR MAINTENANCE OF THE SYSTEM:

Public Law 111-203, Title X, Sections 1017(d), 1055(a), codified at 12 U.S.C. 5497(d), 5565(a).

PURPOSE(S) OF THE SYSTEM:

The system enables the CFPB to manage the distribution of Civil Penalty Fund and redress monies to consumers, including: (1) tracking the collection, allocation, and distribution of funds in the Civil Penalty Fund and redress monies; (2) identifying and locating victims who may receive payments from the Civil Penalty Fund and/or redress payments; (3) determining the amounts of the Civil Penalty Fund payments and redress payments that the Bureau will make to victims; (4) maintaining accounting and financial information associated with such payments; and (5) developing reports to applicable Federal, State, and local taxing officials of taxable income, and reports necessary to meet other reporting requirements. The information will also be used for administrative purposes to ensure quality control, performance, and improving management processes, and to prevent improper payment of funds.

CATEGORIES OF INDIVIDUALS COVERED BY THE SYSTEM:

Individuals covered by this system include, without limitation: (1) Individuals identified as victims or potential victims who may receive payments from the Civil Penalty Fund or through Bureau-Administered Redress, including but not limited to current, former, and prospective consumers who are or have been customers or prospective customers of entities ordered to pay a civil penalty or redress to the CFPB as a result of a Bureau enforcement action; (2) individuals associated with entities and individuals that have been ordered to pay a civil penalty or redress to the Bureau as a result of a Bureau enforcement action; and (3) others, including CFPB employees, with information relevant to, or otherwise associated with, a Bureau enforcement action that has resulted in an order to pay civil penalties or redress to the CFPB.

CATEGORIES OF RECORDS IN THE SYSTEM:

Records in this system may contain identifiable information about individuals including, without limitation: (1) Name, address, email address, phone number and other contact information; (2) Social Security number (SSN), age, date of birth, marital status, records of consumer financial transactions, financial account information, and internal identification number assigned to identified victims; (3) accounting and financial information relevant to making payment; and (4) accounting and financial information relevant to determining when and in what amounts victims have claimed funds.

Additionally, non-identifying information in the system may include the dates the Bureau authorized, instituted, settled, and/or otherwise obtained a final judgement in a judicial or administrative action; an internal case tracking number; the date the judicial or administrative order was entered; the date the judicial or administrative order became a “final order” as defined by the Consumer Financial Civil Penalty Fund Rule, 12 CFR part 1075; the amount of civil penalties or redress ordered; the due date for payments of civil penalties and redress funds; the date and amount of payments made; the status of debt collection efforts; and the balances of the Bureau's accounts as payments are made.

RECORD SOURCE CATEGORIES:

Information in this system is provided by (1) individuals identified as victims or potential victims who may receive payments from the Civil Penalty fund or through Bureau-Administered Redress, including but not limited to current, former, and prospective consumers who are or have been customers or prospective customers of entities ordered to pay a civil penalty or redress to the CFPB as a result of a Bureau enforcement action; (2) entities and individuals associated with entities and individuals that have been ordered to pay a civil penalty or redress to the CFPB as a result of a Bureau enforcement action; and (3) others, including CFPB employees, with information relevant to, or otherwise associated with, a Bureau enforcement action that has resulted in an order to pay civil penalties or redress to the CFPB.

ROUTINE USES OF RECORDS MAINTAINED IN THE SYSTEM, INCLUDING CATEGORIES OF USERS AND THE PURPOSES OF SUCH USES:

In addition to those disclosures generally permitted under 5 U.S.C. 552a(b) of the Privacy Act, and consistent with the CFPB's Disclosure of Records and Information Rules, promulgated at 12 CFR part 1070, all or a portion of the records or information contained in this system may be disclosed outside the CFPB as a routine use to:

(1) Appropriate agencies, entities, and persons when (a) the Bureau suspects or has confirmed that there has been a breach of the system of records; (b) the Bureau has determined that as a result of the suspected or confirmed breach there is a risk of harm to individuals, the Bureau (including its information systems, programs, and operations), the Federal government, or national security; and (c) the disclosure made to such agencies, entities, and persons is reasonably necessary to assist in connection with the Bureau's efforts to respond to the suspected or confirmed breach or to prevent, minimize, or remedy such harm.

(2) Another Federal agency or entity, when the Bureau determines that information from this system of records is reasonably necessary to assist the recipient agency or entity in (a) responding to a suspected or confirmed breach or (b) preventing, minimizing, or remedying the risk of harm to individuals, the recipient agency or entity (including its information systems, programs, and operations), the Federal government, or national security, resulting from a suspected or confirmed breach.

(3) Another Federal or State agency to (a) permit a decision as to access, amendment, or correction of records to be made in consultation with or by that agency, or (b) verify the identity of an individual or the accuracy of information submitted by an individual who has requested access to or amendment or correction of records.

(4) The Executive Office of the President in response to an inquiry from that office made at the request of the subject of a record or a third party on that person's behalf.

(5) Congressional offices in response to an inquiry made at the request of the individual to whom the record pertains.

(6) Contractors, agents, or other authorized individuals performing work on a contract, service, cooperative agreement, job, or other activity on behalf of the Bureau or the U.S. Government and who have a need to access the information in the performance of their mission, including duties or activities.

(7) The Department of Justice (DOJ) for its use in providing legal advice to the Bureau or in representing the Bureau in a proceeding before a court, adjudicative body, or other administrative body, where the use of such information by the DOJ is deemed by the Bureau to be relevant and necessary to the advice or proceeding, and such proceeding names as a party in interest:

(a) The CFPB;

(b) Any employee of the Bureau in their official capacity;

(c) Any employee of the Bureau in their individual capacity where DOJ has agreed to represent the employee; or

(d) The United States, where the CFPB determines that litigation is likely to affect the Bureau or any of its components.

(8) Appropriate Federal, State, local, foreign, Tribal, or self-regulatory organizations or agencies responsible for investigating, prosecuting, enforcing, implementing, issuing, or carrying out a statute, rule, regulation, order, policy, or license if the information may be relevant to a potential violation of civil or criminal law, rule, regulation, order, policy, or license.

(9) To the National Archives and Records Administration (NARA) or other Federal Government agencies pursuant to records management inspections being conducted under the authority of 44 U.S.C. 2904 and 2906.

(10) An entity or person that is the subject of a judicial or administrative action resulting in an order to pay civil penalties or redress to the Bureau, and the attorney or non-attorney representative for that entity or person.

(11) To the Department of the Treasury, Internal Revenue Service, or other governmental entities, including State and local taxing officials, to comply with tax-reporting obligations.

(12) A financial institution holding Civil Penalty Fund or redress monies on behalf of the Bureau in order to issue payments to identified victims.

(13) The Office of Inspector General, or other governmental entities as necessary to comply with reporting obligations regarding the disbursement of Civil Penalty Fund or redress monies.

(14) The Federal Deposit Insurance Corporation (FDIC) in order to make claims under the FDIC's deposit insurance claims process, in the event a financial institution holding Civil Penalty Fund or redress monies on behalf of the Bureau fails.

(15) The U.S. Department of the Treasury when disclosure of the information is relevant to review payment and award eligibility through the Do Not Pay Working System for the purpose of identifying, preventing, or recouping improper payments to an applicant for, or recipient of, Federal funds, including funds disbursed by a State (meaning a State of the United States, the District of Columbia, a territory or possession of the United States, or a federally recognized Indian tribe) in a state-administered, federally funded program.

POLICIES AND PRACTICES FOR STORAGE OF RECORDS:

Records maintained in this system are stored electronically and in paper files.

POLICIES AND PRACTICES FOR RETRIEVAL OF RECORDS:

Records are retrievable by a variety of fields including, but not limited to, the individual's name, address, financial account number, internal identification number assigned to identified victims, or by some combination thereof.

POLICIES AND PRACTICES FOR RETENTION AND DISPOSAL OF RECORDS:

The CFPB maintains electronic and paper records in accordance with the following National Archives and Records Administration (NARA)-approved records retention schedule:

(1) Civil Penalties Program Working Files; DAA-0587-2014-0001-0001. Disposition: Cut off when project is complete. Maintain in office until no longer needed.

(2) Civil Penalties Closed Case Files; DAA-0587-2014-0001-0002. Disposition: Cut-off closed cases files at the end of fiscal year in which the activity is completed. Destroy 5 year(s) after penalty payment or Office of General Counsel authorization.

(3) Civil Penalty Guidelines; DAA-0587-2014-0001-0003. Disposition: Destroy/delete when superseded, obsolete, or no longer needed for business purposes, whichever is later. Destroy when no longer needed.

(4) Civil Penalty Fund Administrator; DAA-0587-2014-0001-0004. Disposition: Cut-off files at the end of the fiscal year in which the activity is completed. Destroy/delete 3 years after cut-off.

(5) Financial Management Files; DAA-0587-2014-0001-0005. Disposition: Cut-off files at the end of the fiscal year in which the activity is completed. Destroy/delete when no longer needed for reference, not to exceed discontinuance of program.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals seeking notification and access to any record contained in this system of records may inquire in writing in accordance with instructions in 12 CFR 1070.50 et seq. Address such requests to: Chief Privacy Officer, Consumer Financial Protection Bureau, 1700 G Street NW, Washington, DC 20552. Instructions are also provided on the CFPB website: https://www.consumerfinance.gov/foia-requests/submit-request/.

CONTESTING RECORD PROCEDURES:

See “Access Procedures” above.

NOTIFICATION PROCEDURES:

See “Record Access Procedures” above.

EXEMPTIONS PROMULGATED FOR THE SYSTEM:

None.

HISTORY:

78 FR 34991; 83 FR 23435.

Kathryn Fong,
Chief Privacy Officer, Consumer Financial Protection Bureau.

[FR Doc. 2025-23612 Filed 12-19-25; 8:45 am]

BILLING CODE 4810-AM-P